DEPARTMENT OF THE INTERIOR

National Park Service

Final Star-Spangled Banner National Historic Trail Study Report Environmental Impact Statement; Maryland, District of Columbia, and Virginia

AGENCY: National Park Service, Department of the Interior.

ACTION: Notice of Availability of the final environmental impact statement for the Star-Spangled Banner National Historic Trail Study.

SUMMARY: Pursuant to the National Environmental Policy Act of 1969, 42 U.S.C. 4332(C), the National Park Service announces the availability of the final Environmental Impact Statement for the Star-Spangled Banner National Historical Trail Study.

DATES: The National Park Service will execute a Record of Decision (ROD) no sooner than 30 days following publication by the Environmental Protection Agency of the notice of availability of the Final Environmental Impact Statement.

ADDRESSES: Information will be available for public inspection from the Northeast Region, National Park Service, 200 Chestnut Street, Philadelphia, PA 19106 or at http://www.nps.gov/phso/jstarspan/.

FOR FURTHER INFORMATION CONTACT: William Sharp, Project Manager, Northeast Region, 215-597-1655 orwilliam_sharp@nps.gov.

Dated: August 20, 2004.
Marie Rust,
Regional Director, Northeast Region, National Park Service.

[FR Doc. 04-25433 Filed 11-15-04; 8:45 am]

BILLING CODE 4312-52-M